DEPARTMENT OF TRANSPORTATION

Pipeline and Hazardous Materials Safety Administration

[Docket No. PHMSA-2017-0157]

Pipeline Safety: Request for Special Permit; Alaska Gasline Development Corporation

AGENCY: Pipeline and Hazardous Materials Safety Administration (PHMSA), DOT.

ACTION: Notice.

SUMMARY: PHMSA is publishing this notice to solicit public comment on a request for special permit, seeking relief from compliance with certain requirements in the Federal pipeline safety regulations (PSRs). At the conclusion of the 60-day comment period, PHMSA will review the comments received from this notice as part of its evaluation to grant or deny the special permit request.

DATES: Submit any comments regarding this special permit request by February 10, 2020.

ADDRESSES: Comments should reference the docket number for the specific special permit request and may be submitted in the following ways:

• E-Gov website: http://www.Regulations.gov. This site allows the public to enter comments on any Federal Register notice issued by any agency.

• Fax: 1-202-493-2251.

• Mail: Docket Management System: U.S. Department of Transportation, Docket Operations, M-30, West Building Ground Floor, Room W12-140, 1200 New Jersey Avenue SE, Washington, DC 20590.

• Hand Delivery: Docket Management System: U.S. Department of Transportation, Docket Operations, M-30, West Building Ground Floor, Room W12-140, 1200 New Jersey Avenue SE, Washington, DC 20590, between 9:00 a.m. and 5:00 p.m., Monday through Friday, except Federal holidays.

Instructions: You should identify the docket number for the special permit request you are commenting on at the beginning of your comments. If you submit your comments by mail, please submit two copies. To receive confirmation that PHMSA has received your comments, please include a self-addressed stamped postcard. Internet users may submit comments at http://www.Regulations.gov.

Note: There is a privacy statement published on http://www.Regulations.gov. Comments, including any personal information provided, are posted without changes or edits to http://www.Regulations.gov.

Confidential Business Information: Confidential Business Information (CBI) is commercial or financial information that is both customarily and actually treated as private by its owner. Under the Freedom of Information Act (FOIA) (5 U.S.C. 552), CBI is exempt from public disclosure. If your comments responsive to this notice contain commercial or financial information that is customarily treated as private, that you actually treat as private, and that is relevant or responsive to this notice, it is important that you clearly designate the submitted comments as CBI. Pursuant to 49 Code of Federal Register (CFR) § 190.343, you may ask PHMSA to give confidential treatment to information you give to the agency by taking the following steps: (1) Mark each page of the original document submission containing CBI as “Confidential”; (2) send PHMSA, along with the original document, a second copy of the original document with the CBI deleted; and (3) explain why the information you are submitting is CBI. Unless you are notified otherwise, PHMSA will treat such marked submissions as confidential under the FOIA, and they will not be placed in the public docket of this notice. Submissions containing CBI should be sent to Kay McIver, DOT, PHMSA PHP-80, 1200 New Jersey Avenue SE, Washington, DC 20590-0001. Any commentary PHMSA receives that is not specifically designated as CBI will be placed in the public docket for this matter.

FOR FURTHER INFORMATION CONTACT:

General: Ms. Kay McIver by telephone at 202-366-0113, or by email at kay.mciver@dot.gov.

Technical: Mr. Joseph Sieve by telephone at 202-366-5064, or by email at joseph.sieve@dot.gov.

SUPPLEMENTARY INFORMATION:

PHMSA received a special permit request from the Alaska Gasline Development Corporation (AGDC) to deviate from the PSRs in 49 CFR 193.2167 and 193.2173 in order to use pipe-in-pipe (PIP) technology at various segments of their proposed liquefied natural gas (LNG) product and LNG quench lines.

AGDC is proposing to construct, own, and operate one integrated natural gas pipeline with gas pre-treatment facilities, interdependent interconnection gas delivery points, and a liquefaction and marine export facility, (collectively known as the Alaska LNG Project) for the purpose of liquefying supplies of natural gas from Alaska. Gas would be supplied from the Point Thomson Unit and Prudhoe Bay Unit production fields on the North Slope, and provide opportunities for in-state deliveries of natural gas and export of LNG in foreign commerce. PHMSA has prescribed the minimum PSRs for LNG facilities in compliance with 49 U.S.C. 60101 et. seq. Those standards are codified in 49 CFR part 193 and apply to the siting, design, construction, operation, maintenance, and security of LNG facilities.

The Alaska LNG Terminal would include LNG rundown lines, which would transfer LNG from the liquefaction units to the LNG storage tanks. These lines would be constructed using PIP technology, which would be designed to contain releases from the inner pipe within an enclosed secondary outer pipe. The three 20-inch diameter PIP rundown lines would start at the outlet line of each liquefaction train and combine to a 30-inch diameter rundown header, which transfers LNG to the storage tanks. The 30-inch diameter PIP rundown header transitions to conventional stainless steel piping in the LNG storage tank area before branching to two (2) tank loading lines. Additionally, AGDC proposes to use PIP technology for four (4) LNG quench lines (two (2) supply and two (2) return lines) that would be used to cool down the boil-off gas. Four-inch (4-inch) diameter quench lines would be connected to the dual 28-inch diameter LNG marine cargo transfer lines using fabricated PIP tees. The quench lines would continue to the northern edge of the boil-off gas compressor unit spill collection area where the PIP transitions to conventional stainless steel piping near the boil-off gas compressors.

The request, proposed special permit with conditions, and Draft Environmental Assessment (DEA) for the AGDC LNG Terminal pipeline are available for review and public comment in the Docket No. PHMSA-2017-0157. We invite interested persons to review and submit comments on the special permit request and DEA in the docket. Please include any comments on potential safety and environmental impacts that may result if the special permit is granted. Comments may include relevant data.

Before issuing a decision on the special permit request, PHMSA will evaluate all comments received on or before the comment closing date. Comments received after the closing date will be evaluated if it is possible to do so without incurring additional expense or delay. PHMSA will consider each relevant comment we receive in making our decision to grant or deny this request.

Issued in Washington, DC on December 4, 2019, under authority delegated in 49 CFR 1.97.
Alan K. Mayberry,
Associate Administrator for Pipeline Safety.

[FR Doc. 2019-26559 Filed 12-9-19; 8:45 am]

BILLING CODE 4910-60-P